OFFICE OF SCIENCE AND TECHNOLOGY POLICY

Request for Information: Public Access to Peer-Reviewed Scholarly Publications, Data and Code Resulting From Federally Funded Research

AGENCY: Office of Science and Technology Policy (OSTP).

ACTION: Notice of request for information (RFI).

SUMMARY: OSTP, and the National Science and Technology Council's (NSTC) Subcommittee on Open Science (SOS), are engaged in ongoing efforts to facilitate implementation and compliance with the 2013 memorandum Increasing Access to the Results of Federally Funded Scientific Research ¹ and to address recommended actions made by the Government Accountability Office in a November 2019 report.² OSTP and the SOS continue to explore opportunities to increase access to unclassified published research, digital scientific data, and code supported by the U.S. Government. This RFI aims to provide all interested individuals and organizations with the opportunity to provide recommendations on approaches for ensuring broad public access to the peer-reviewed scholarly publications, data, and code that result from federally funded scientific research.

¹ Retrieved from: https://obamawhitehouse.archives.gov/sites/default/files/microsites/ostp/ostp_public_access_memo_2013.pdf.

² Retrieved from: https://www.gao.gov/assets/710/702847.pdf.

DATES: Interested persons are invited to submit comments on or before 11:59 p.m. ET on March 16, 2020.

ADDRESSES: Comments submitted in response to this notice may be submitted online to Lisa Nichols, Assistant Director for Academic Engagement, OSTP, at publicaccess@ostp.eop.gov. Email submissions should be machine-readable [pdf, doc, txt] and not copy-protected. Submissions should include “RFI Response: Public Access” in the subject line of the message.

Instructions: Response to this RFI is voluntary. Each individual or institution is requested to submit only one response. Submission must not exceed 5 pages in 12 point or larger font, with a page number provided on each page. Responses should include the name of the person(s) or organization(s) filing the comment. Comments containing references, studies, research, and other empirical data that are not widely published should include copies or electronic links of the referenced materials. No business proprietary information, copyrighted information, or personally identifiable information should be submitted in response to this RFI.

In accordance with FAR 15.202(3), responses to this notice are not offers and cannot be accepted by the Federal Government to form a binding contract. Additionally, those submitting responses are solely responsible for all expenses associated with response preparation.

FOR FURTHER INFORMATION CONTACT: For additional information, please direct your questions to Lisa Nichols at publicaccess@ostp.eop.gov.

SUPPLEMENTARY INFORMATION: In February of 2013, OSTP issued the memorandum Increasing Access to the Results of Federally Funded Scientific Research. The memorandum directed Federal agencies with more than $100M in research and development (R&D) expenditures to develop plans to make the results of federally funded unclassified research that are published in peer-reviewed publications, and digitally formatted scientific data, publicly available. Federal agency plans required that published work be made available following a twelve-month post-publication embargo period.

OSTP and the NSTC SOS continue to explore opportunities to make the knowledge, information and data generated by federally funded research more readily accessible to students, clinicians, businesses, entrepreneurs, researchers, technologists, and the general public who support these investments as a means to accelerate knowledge and innovation. Over the course of the last two years, OSTP has had nearly 100 meetings with stakeholders on open science, current policy on public access to the results of federally funded research, the evolution of scholarly communications, and access to data and code associated with published results. This RFI aims to expand on these consultations and provide all interested individuals and organizations with the opportunity to provide recommendations on approaches for ensuring broad public access to the peer-reviewed scholarly publications, data and code that result from federally funded scientific research. OSTP is interested in perspectives on the following topics:

• What current limitations exist to the effective communication of research outputs (publications, data, and code) and how might communications evolve to accelerate public access while advancing the quality of scientific research? What are the barriers to and opportunities for change?

• What more can Federal agencies do to make tax-payer funded research results, including peer-reviewed author manuscripts, data, and code funded by the Federal Government, freely and publicly accessible in a way that minimizes delay, maximizes access, and enhances usability? How can the Federal Government engage with other sectors to achieve these goals?

• How would American science leadership and American competitiveness benefit from immediate access to these resources? What are potential challenges and effective approaches for overcoming them? Analyses that weigh the trade-offs of different approaches and models, especially those that provide data, will be particularly helpful.

• Any additional information that might be considered for Federal policies related to public access to peer-reviewed author manuscripts, data, and code resulting from federally supported research.

Dated: February 12, 2020.
Sean Bonyun,
Chief of Staff, Office of Science and Technology Policy.

[FR Doc. 2020-03189 Filed 2-18-20; 8:45 am]

BILLING CODE 3270-F9-P